DEPARTMENT OF COMMERCE

Census Bureau

Agency Information Collection Activities; Submission to the Office of Management and Budget (OMB) for Review and Approval; Comment Request; Generic Clearance for 2030 Census Small-Scale Tests, Evaluations, and Database Updates

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection, Generic Clearance for 2030 Census Small-Scale Tests, Evaluations, and Database Updates, prior to the submission of the information collection request (ICR) to the Office of Management and Budget (OMB) for approval.

DATES: To ensure consideration, comments regarding this proposed information collection must be received on or before November 12, 2024.

ADDRESSES: Interested persons are invited to submit written comments by email to Michael S. Snow (dcmd.pra@census.gov). Please reference Generic Clearance for 2030 Census Small-Scale Tests, Evaluations, and Database Updates in the subject line of your comments. You may also submit comments, identified by Docket Number USBC-2024-0024, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael S. Snow, Supervisory Program Analyst, Decennial Program Management Office, Decennial Census Management Division, (301) 763-9912, dcmd.pra@census.gov.

SUPPLEMENTARY INFORMATION:

I. Abstract

The U.S. Census Bureau plans to request OMB approval for a three-year period for a new Generic Information Collection to conduct a series of studies to research and evaluate how to improve data collection activities for 2030 Census programs at the Census Bureau. In addition, the Census Bureau developed recommendations from lessons learned from previous censuses and received suggestions from stakeholders, focus groups, and results of earlier research studies, on updating address databases and other datasets used to plan and conduct larger tests and the 2030 Census itself. Under this Generic Information Collection, the Census Bureau also plans to test implementing some of those recommendations and suggestions. These studies and updates will explore how the Census Bureau can improve efficiency, data quality, and response rates and reduce respondent burden in future census and survey tests, operations, evaluations, experiments, and database updates. Having this Generic Information Collection will also provide the quick turn-around necessary for conducting unplanned tests and updates as well as unanticipated collections in response to disasters declared at the international, national, regional, or state level that could have a major impact on the development and planning of Census Bureau operations. For example, the Census Bureau may need to seek help from umbrella organizations for Group Quarters or Transitory Locations to provide address lists for emergency and transitional shelters during natural disasters.

Because this information collection will operate as a generic clearance, the estimated number of respondents and annual reporting hours requested cover both the known and yet to be determined tests and updates. A generic clearance is needed for these tests, evaluations, and database -updates because the exact number and explicit details of each test, evaluation, or update to be performed is yet to be determined. Once information collection plans are defined, they will be submitted on an individual basis to keep OMB informed as these tests, evaluations, updates progress.

For example, in one group of tests that are already being planned, the Census Bureau intends to test the use of new and improved data collection techniques for self-response and interviewer data-collection tasks surrounding and following the ongoing census and survey operations. Tests may also involve frame update tasks surrounding and following those same operations. These tests and other research and evaluation may cover the following: developing alternative enumeration or follow-up questionnaires; resolving usability issues; conducting interviews or debriefings; and non-English language training and interviews. For instance, the Census Bureau has an ongoing and iterative program that uses nationally representative samples and that plans for two more iterations by the end of 2027. To study enumeration, the Census Bureau may conduct the enumeration directly with a household member or knowledgeable respondent. The questions asked in these studies will be typical census or survey and related questions, along with potential attitudinal and satisfaction debriefing questions.

In addition, the Census Bureau plans to implement some recommendations from small-scale testing and stakeholder input to adjust and improve how it conducts support activities for the development of 2030 Census operations. An example might be having universities, hospital systems, and federal, state, and local agencies compile up-to-date names, addresses, and points of contact for group quarters and transitory locations.

The Census Bureau roughly estimates that, during the three-year period of this clearance, two currently planned tests will go to 216,000 respondents a piece (70,000 burden hours each); four potential experiments/tests on Group Quarters will average 50-60 respondents (an average of 15-20 burden hours) and as-yet unknown tests, evaluations, or database updates might go to 25,000 to 37,500 respondents (7,300 to 10,000 burden hours). In addition, the Census Bureau might have to collect information from 30,000 to 55,000 respondents (5,000 to 9,000 burden hours) in response to declared disasters.

II. Method of Collection

The information will be collected through observations, self-response (including but not limited to internet and paper forms), in-person interviews, and/or telephone interviews.

III. Data

OMB Control Number: 0607-XXXX.

Form Number(s): Not yet determined.

Type of Review: Regular submission, New Information Collection Request.

Affected Public: Individuals or households: Business or other for-profit organizations; Not-for-profit institutions; State, Local or Tribal government; Federal government.

Estimated Number of Respondents: 162,000-175,000 per year.

Estimated Time per Response: 18 minutes.

Estimated Total Annual Burden Hours: 51,000-55,400 hours annually.

Estimated Total Annual Cost to Public: There is no cost to the respondent other than time to answer the information request.

Respondent's Obligation: Mandatory or Voluntary, depending on cited authority.

Legal Authority: Title 13, Sections 141, 191, 193, 221, 223.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Clearance Officer, Office of the Under Secretary for Economic Affairs, Commerce Department.

[FR Doc. 2024-20547 Filed 9-10-24; 8:45 am]

BILLING CODE 3510-07-P